DEPARTMENT OF COMMERCE

International Trade Administration

[C-489-819]

Steel Concrete Reinforcing Bar From the Republic of Türkiye: Notice of Court Decision Not in Harmony With the Results of Countervailing Duty Administrative Review; Notice of Amended Final Results

AGENCY: Enforcement and Compliance, International Trade Administration, Department of Commerce.

SUMMARY: On October 6, 2025, the U.S. Court of International Trade (CIT) issued its final judgment in Kaptan Demir Celik Endustrisi ve Ticaret A.S., et al. v. United States, Consol. Court No. 23-00131, sustaining the U.S. Department of Commerce (Commerce)'s remand results pertaining to the 2020 administrative review of the countervailing duty (CVD) order on steel concrete reinforcing bar (rebar) from the Republic of Türkiye (Türkiye). Commerce is notifying the public that the CIT's final judgment is not in harmony with Commerce's final results of the administrative review, and that Commerce is amending the final results with respect to the subsidy rates assigned to Kaptan Demir Celik Endustrisi ve Ticaret A.S. (Kaptan) and Icdas Celik Enerji Tersane ve Ulasim Sanayi, A.S. (Icdas).

DATES: Applicable October 16, 2025.

FOR FURTHER INFORMATION CONTACT: Ted Pearson, AD/CVD Operations, Office I, Enforcement and Compliance, International Trade Administration, U.S. Department of Commerce, 1401 Constitution Avenue NW, Washington, DC 20230; telephone: (202) 482-2631.

SUPPLEMENTARY INFORMATION:

Background

On May 26, 2023, Commerce published its Final Results in the 2020 CVD administrative review of rebar from Türkiye.¹ Commerce determined in the Final Results that benefits from Banking Insurance and Transaction Tax (BITT) exemptions were de jure specific.² Kaptan and Icdas appealed Commerce's Final Results. On October 21, 2024, the CIT remanded the Final Results to Commerce to reconsider de jure specificity or to consider whether evidence on the record supported de facto specificity.³

¹ See Steel Concrete Reinforcing Bar from the Republic of Turkey: Final Results of Countervailing Duty Administrative Review and Rescission, in Part; 2020, 88 FR 34129 (May 26, 2023) (Final Results), and accompanying Issues and Decision Memorandum (IDM).

² See Final Results IDM at Comment 1.

³ See Kaptan Demir Celik Endustrisi ve Ticaret A.S., et al. v. United States, 736 F. Supp. 3d 1318 (CIT 2024).

In its Final Remand Redetermination, issued in January 2025, Commerce found under protest that the BITT program was neither de jure nor de facto specific, and, consequently, that the program was not countervailable.⁴ Commerce recalculated Kaptan's subsidy rate without BITT, and, likewise, revised the subsidy rate for Icdas as a company not selected for individual review. Specifically, for the period January 1, 2020, through December 31, 2020, the rates for both Kaptan and Icdas and their cross-owned companies are now 1.26 percent ad valorem. The CIT sustained Commerce's Final Remand Redetermination.⁵

⁴ See Final Results of Redetermination Pursuant to Court Remand, Kaptan Demir Celik Endustrisi ve Ticaret A.S., et al. v. United States, Consol. Court No. 23-00131, Slip Op. 24-116 (CIT October 21, 2024), dated January 21, 2025 (Final Remand Redetermination).

⁵ See Kaptan Demir Celik Endustrisi ve Ticaret A.S., et al. v. United States, Consol. Court No. 23-00131, Slip Op. 25-130 (CIT October 6, 2025).

Timken Notice

In its decision in Timken,⁶ as clarified by Diamond Sawblades,⁷ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's October 6, 2025, judgment constitutes a final decision of the CIT that is not in harmony with Commerce's Final Results. Thus, this notice is published in fulfillment of the publication requirements of Timken.

⁶ See Timken Co. v. United States, 893 F.2d 337 (Fed. Cir. 1990) (Timken).

⁷ See Diamond Sawblades Manufacturers Coalition v. United States, 626 F.3d 1374 (Fed. Cir. 2010) (Diamond Sawblades).

Amended Final Results

Because there is now a final court judgment, Commerce is amending its Final Results with respect to Kaptan and the non-examined company, Icdas, as follows

⁸ Commerce finds the following companies to be cross-owned with Icdas: Mardas Marmara Deniz Isletmeciligi A.S.; Oraysan Insaat Sanayi ve Ticaret A.S.; Artim Demir Insaat Turizm Sanayi Ticaret Ltd. Sti.; Anka Entansif Hayvancilik Gida Tarim Sanayi ve Ticaret A.S.; Karsan Gemi Insaa Sanayi Ticaret A.S.; Artmak Denizcilik Ticaret Ve Sanayi A.S.; and Eras Tasimacilik Taahhut Ins.Tic A.S.

⁹ Commerce finds the following companies to be cross-owned with Kaptan: Kaptan Metal Dis Ticaret ve Nakliyat A.S.; Martas Marmara Ereglisi Liman Tesisleri A.S.; Aset Madencilik A.S.; Kaptan Is Makinalari Hurda Alim Satim Ltd. Sti.; Efesan Demir San. Ve Tic. A.S.; and Nur Gemicilik ve Tic. A.S.

Company | Subsidy rate (percent ad valorem)
Icdas Celik Enerji Tersane ve Ulasim Sanayi A.S.⁸ | 1.26
Kaptan Demir Celik Endustrisi ve Ticaret A.S.⁹ | 1.26

Amended Cash Deposit Rates

Because Kaptan and Icdas have a superseding cash deposit rate, i.e., there have been final results published in a subsequent administrative review,¹⁰ we will not issue revised cash deposit instructions to U.S. Customs and Border Protection (CBP). This notice will not affect the current cash deposit rate.

¹⁰ See Steel Concrete Reinforcing Bar from the Republic of Türkiye: Final Results of Countervailing Duty Administrative Review; 2022, 90 FR 44167 (September 12, 2025).

Liquidation of Suspended Entries

At this time, Commerce remains enjoined by CIT order from liquidating entries that: were produced and/or exported by Kaptan and Icdas, and were entered, or withdrawn from warehouse, for consumption during the period January 1, 2020, through December 31, 2020. These entries will remain enjoined pursuant to the terms of the injunction during the pendency of any appeals process.

In the event the CIT's ruling is not appealed, or, if appealed, upheld by a final and conclusive court decision, Commerce intends to instruct CBP to assess countervailing duties on unliquidated entries of subject merchandise produced and/or exported by Kaptan and Icdas in accordance with 19 CFR 351.212(b). We will instruct CBP to assess countervailing duties on all appropriate entries covered by this review when the ad valorem rate is not zero or de minimis. Where an ad valorem subsidy rate is zero or de minimis,¹¹ we will instruct CBP to liquidate the appropriate entries without regard to countervailing duties

¹¹ See 19 CFR 351.106(c)(2).

Notification to Interested Parties

This notice is issued and published in accordance with sections 516A(e)(1), 751(b), and 777(i)(1) of the Act.

Dated: November 21, 2025.
Christopher Abbott,
Deputy Assistant Secretary for Policy and Negotiations, performing the non-exclusive functions and duties of the Assistant Secretary for Enforcement and Compliance.

[FR Doc. 2025-21289 Filed 11-25-25; 8:45 am]

BILLING CODE 3510-DS-P